DEPARTMENT OF ENERGY

Federal Energy Regulatory Commission

[Docket No. Pf05-15-000]

Sonora Pipeline, LLC; Notice of Intent To Prepare an Environmental Assessment for the Proposed Burgos Hub Export/Import Project, and Notice of Request for Comments on Environmental Issues; Site Visit

June 29, 2005.

The staff of the Federal Energy Regulatory Commission (FERC or Commission) will prepare an environmental assessment (EA) that will discuss the environmental impacts of Sonora Pipeline, LLC's (Sonora) planned Burgos Hub Export/Import Project located in Hidalgo County, Texas. This notice announces the opening of the scoping process we will use to gather input from the public and interested agencies on the projects. Your input will help the Commission staff determine which issues need to be evaluated in the EA. Please note that the scoping period will close on August 1, 2005.

This notice is being sent to affected landowners; federal, state, and local government representatives and agencies; environmental and public interest groups; Native American tribes; other interested parties in this proceeding; and local libraries and newspapers. We encourage government representatives to notify their constituents of this planned project and encourage them to comment on their areas of concern.

Summary of the Proposed Project

The project would consist of construction of 31 miles of 30-inch-diameter pipeline in two segments. The first segment would be 8 miles of pipeline that would commence at Donna Station and extend southward to the international boundary in the Rio Grande River near the city of Progresso. The second segment would be 23 miles of pipeline and would commence at the Gilmore Plant and extend southward to the international boundary in the Rio Grande River near the city of Mission.

Sonora indicates that these facilities are needed to help alleviate the growing demand for natural gas in the Burgos Hub area of Mexico and in the longer term, will help alleviate the demand for natural gas in the United States by providing a means for liquefied natural gas (LNG) from offshore Mexico to be imported.

Sonora anticipates filing an application with the FERC on or before the end of the summer. If approved, Sonora would seek approval to begin construction in March 2006.

Location maps depicting Sonora's proposed facilities are provided in Appendix 1.¹

¹ The appendices referenced in this notice are not being printed in the Federal Register. Copies are available on the Commission's Web site (excluding maps) at the “eLibrary” link or from the Commission's Public Reference Room or call (202) 502-8371. For instructions on connecting to eLibrary refer to the end of this notice. Copies of the appendices were sent to all those receiving this notice in the mail.

Currently Identified Environmental Issues

At this time no formal application has been filed with the FERC. For this project, the FERC staff has initiated its NEPA review prior to receiving the application. The purpose of the Commission's Pre-Filing Process is to involve interested stakeholders early in project planning and to identify and resolve issues before an application is filed with the FERC.

The EA Process

The FERC will use the EA to consider the environmental impact that could result if it issues Sonora a Certificate of Public Convenience and Necessity.

This notice formally announces our preparation of the EA and the beginning of the process referred to as “scoping.” We ² are soliciting input from the public and interested agencies to help us focus the analysis in the EA on the potentially significant environmental issues related to the proposed action.

² “We” “us,” and “our” refer to the environmental staff of the Office of Energy Projects (OEP).

Our independent analysis of the issues will be included in an EA that will be prepared for the project. Our evaluation will also include possible alternatives to the proposed project or portions of the project, and we will make recommendations on how to lessen or avoid impacts on the various resource areas of concern.

The EA will be mailed to Federal, State, and local government agencies; elected officials; environmental and public interest groups; Native American tribes; affected landowners; other interested parties; local libraries and newspapers; and the FERC's official service list for this proceeding. A 30-day comment period will be allotted for review of the EA. We will consider all comments submitted on the EA in any Commission Order that is issued for the project.

We are currently involved in discussions with other jurisdictional agencies to identify their issues and concerns. These agencies include the U.S. Army Corps of Engineers, U.S. Fish and Wildlife Service, Texas Parks and Wildlife, and the Texas Historical Commission. By this notice, we are asking these and other federal, state, and local agencies with jurisdiction and/or special expertise with respect to environmental issues to formally cooperate with us in the preparation of the EA. Agencies that would like to request cooperating status should follow the instructions for filing comments provided below.

Public Participation

You can make a difference by providing us with your specific comments or concerns about the proposals. Your comments should focus on the potential environmental effects, reasonable alternatives and measures to avoid or lessen environmental impact. The more specific your comments, the more useful they will be. To ensure that your comments are timely and properly recorded, please mail your comments so that they will be received in Washington, DC on or before August 1, 2005 and carefully follow these instructions:

• Send an original and two copies of your letter to: Magalie R. Salas, Secretary, Federal Energy Regulatory Commission, 888 First St., NE., Room 1A., Washington, DC 20426;

• Label one copy of the comments for the attention of Gas Branch 1, DG2E; and

• Reference Docket No. PF05-15-000 on the original and both copies.

Please note that the Commission encourages electronic filing of comments. See 18 CFR 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

When Sonora submits its application for authorization to construct and operate the Burgos Hub Expansion Project, the Commission will publish a Notice of Application in the Federal Register and will establish a deadline for interested persons to intervene in the proceeding. Because the Commission's Pre-filing Process occurs before an application to begin a proceeding is officially filed, petitions to intervene during this process are premature and will not be accepted by the Commission.

Site Visit

On July 14, 2005, the OEP staff will conduct a pre-certification site visit of the planned Burgos Hub Export/Import Project.

We will view the proposed route and variations that are being considered for the planned pipeline. Examination will be by automobile and on foot. Representatives of Sonora will be accompanying the OEP staff.

All interested parties may attend. Those planning to attend must provide their own transportation. Those interested in attending the site visit should meet at 9 a.m. in parking lot of the Renaissance Casa De Palmas Hotel, 101 N. Main Street McAllen, Texas. You may have also been notified by Sonora that it plans on holding an Open House that evening, at the Renaissance Casa De Palmas Hotel in McAllen, Texas at 6:30 p.m.

For additional information, please contact the Commission's Office of External Affairs at 1-866-208-FERC (3372).

Availability of Additional Information

Additional information about the project is available from the Commission's Office of External Affairs at 1-866-208 FERC (3372) or on the FERC Internet Web site (http://www.ferc.gov). Using the “eLibrary” link, select “General Search” from the eLibrary menu, enter the selected date range and “Docket Number” (i.e., PF05-15-000), and follow the instructions. Searches may also be done using the phrase “Burgos Hub Export/Import” in the “Text Search” field. For assistance with access to eLibrary, the helpline can be reached at 1-866-208-3676, TTY (202) 502-8659, or at FERCOnlineSupport@ferc.gov. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

You can also contact Mr. James Blackwell, Sonora Representative by phone at (512) 930-2044 or by e-mail at jimblackwell@bnceng.com with your specific concerns or comments regarding this project.

Magalie R. Salas,
Secretary.

[FR Doc. E5-3568 Filed 7-6-05; 8:45 am]

BILLING CODE 6717-01-P